INTERNATIONAL TRADE COMMISSION

[Investigations Nos. 701-TA-297 (Review) and 731-TA-422 (Review)]

Steel Rails From Canada

Determinations

On the basis of the record ¹ developed in the subject five-year reviews, the United States International Trade Commission determines, pursuant to section 751(c) of the Tariff Act of 1930 (19 U.S.C. 1675(c)), that revocation of the countervailing duty and antidumping duty orders on steel rails from Canada would be likely to lead to continuation or recurrence of material injury to an industry in the United States within a reasonably foreseeable time.

¹ The record is defined in sec. 207.2(f) of the Commission's Rules of Practice and Procedure (19 CFR § 207.2(f)).

Background

The Commission instituted these reviews on June 1, 1999 (64 FR 29353, June 1, 1999) and determined on September 3, 1999 that it would conduct expedited reviews (64 FR 50108, September 15, 1999). The Commission transmitted its determinations in these reviews to the Secretary of Commerce on January 24, 2000. The views of the Commission are contained in USITC Publication 3269 (January 2000), entitled Steel Rails from Canada: Investigations Nos. 701-TA-297 (Review) and 731-TA-422 (Review).

By order of the Commission.
Issued: January 24, 2000.
Donna R. Koehnke,
Secretary.

[FR Doc. 00-1858 Filed 1-25-00; 8:45 am]

BILLING CODE 7020-02-P